ENVIRONMENTAL PROTECTION AGENCY

[EPA-HQ-OPP-2017-0751; FRL-12313-01-OCSPP]

Pesticide Registration Review; Decisions and Case Closures for Several Pesticides; Notice of Availability

AGENCY: Environmental Protection Agency (EPA).

ACTION: Notice.

SUMMARY: This notice announces the availability of EPA's interim registration review decision for chlorine gas. In addition, this notice announces the closure of the registration review case for metschnikowia fructicola strain NRRL Y-27328 because the last U.S. registrations for this pesticide have been canceled.

FOR FURTHER INFORMATION CONTACT:

For pesticide specific information, contact: The Chemical Review Manager for the pesticide of interest identified in Table 1 of Unit I.

For general information on the registration review program, contact: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION:

I. Purpose of This Notice

Pursuant to 40 CFR 155.58(c), this notice announces the availability of EPA's interim registration review decision for the pesticide shown in Table 1. The interim registration review decision is supported by rationales included in the docket established for the chemical.

Table 1—Interim Registration Review Decisions Being Issued
Registration review case name and number | Docket ID No. | Chemical review manager and contact information
Chlorine Gas | EPA-HQ-OPP-2010-0242 | Erin Dandridge, dandridge.erin@epa.gov, (202) 566-0635.
Case Number 4022 |

This notice also announces the closure of the registration review case for Metschnikowia fructicola strain NRRL Y-27328 (Case Number 6531) because the last U.S. registrations for these pesticides have been canceled. There is no docket number established for this registration review case as all products were cancelled in Case 6531 before the registration review assessments were initiated.

II. Background

EPA is conducting its registration review of the chemical listed in Table 1 of Unit I pursuant to the Federal Insecticide, Fungicide, and Rodenticide Act (FIFRA) section 3(g) (7 U.S.C. 136a(g)) and the Procedural Regulations for Registration Review at 40 CFR part 155, subpart C. FIFRA section 3(g) provides, among other things, that pesticide registrations are to be reviewed every 15 years. Consistent with 40 CFR 155.57, in its final registration review decision, EPA will ultimately determine whether a pesticide continues to meet the registration standard in FIFRA section 3(c)(5) (7 U.S.C. 136a(c)(5)). As part of the registration review process, the Agency has completed interim or final registration review decisions for the pesticide in Table 1 of Unit I.

Prior to completing the interim registration review decision in Table 1 of Unit I, EPA posted the proposed interim decision for the chemical and invited the public to submit any comments or new information, consistent with 40 CFR 155.58(a). EPA considered and responded to any comments or information received during these public comment periods in the respective interim decision or final registration review decisions.

For additional background on the registration review program, see: https://www.epa.gov/pesticide-reevaluation.

Authority: 7 U.S.C. 136 et seq.

Dated: October 22, 2024.
Jean Anne Overstreet,
Director, Pesticide Re-Evaluation Division, Office of Pesticide Programs.

[FR Doc. 2024-25004 Filed 10-25-24; 8:45 am]

BILLING CODE 6560-50-P